DEPARTMENT OF THE TREASURY

Public Meeting of the President's Advisory Panel on Federal Tax Reform

AGENCY: Department of the Treasury.

ACTION: Notice of meeting.

SUMMARY: This notice advises all interested persons of the location of the March 16, 2005, public meeting of the President's Advisory Panel on Federal Tax Reform. This meeting was previously announced in 70 FR 8875 (February 23, 2005).

DATES: The meeting will be held on Wednesday, March 16, 2005, in Chicago, Illinois, and will begin at 10 a.m c.s.t.

ADDRESSES: The meeting will be held at the University of Chicago Graduate School of Business, Gleacher Center, 450 North Cityfront Plaza Drive, Chicago, Illinois 60611. Seating will be available on a first-come, first-served basis.

FOR FURTHER INFORMATION CONTACT: The Panel staff at (202) 927-2TAX (927-2829) (not a toll-free call) or e-mail info@taxreformpanel.gov (please do not send comments to this box). Additional information is available at http://www.taxreformpanel.gov.

Dated: March 10, 2005.
Mark S. Kaizen,
Designated Federal Officer.

[FR Doc. 05-5084 Filed 3-11-05; 8:45 am]

BILLING CODE 4810-25-P